DEPARTMENT OF ENERGY

Environmental Management Site-Specific Advisory Board, Savannah River Site

AGENCY: Department of Energy.

ACTION: Notice of open meeting.

SUMMARY: This notice announces a meeting of the Nuclear Materials Committee of the Environmental Management Site-Specific Advisory Board (EM SSAB), Savannah River Site (known locally as the Savannah River Site Citizens Advisory Board [SRS CAB]). The Federal Advisory Committee Act (Pub. L. 92-463, 86 Stat. 770) requires that public notice of this meeting be announced in the Federal Register.

DATES: Tuesday, July 12, 2016, 4:30 p.m.-7:00 p.m.

ADDRESSES: New Ellenton Community Center, 212 Pine Hill Avenue, New Ellenton, South Carolina 29809.

FOR FURTHER INFORMATION CONTACT: James Giusti, Office of External Affairs, Department of Energy, Savannah River Operations Office, P.O. Box A, Aiken, SC 29802; Phone: (803) 952-7684.

SUPPLEMENTARY INFORMATION: Purpose of the Board: The purpose of the Board is to make recommendations to DOE-EM and site management in the areas of environmental restoration, waste management, and related activities.

Purpose of the Nuclear Materials Committee: The Nuclear Materials Committee was established to study issues that involve nuclear materials that impact present or future SRS activities, including used nuclear fuel program activities, nuclear materials management and nuclear materials integration.

Tentative Agenda

• Welcome and Opening Remarks

• Discussion of Proposed Committee Recommendations and Position Papers

• Public Comments

• Adjourn

Public Participation: The SRS CAB's Committee welcomes the attendance of the public at their committee meeting and will make every effort to accommodate persons with physical disabilities or special needs. If you require special accommodations due to a disability, please contact James Giusti at least seven days in advance of the meeting at the phone number listed above. Written statements may be filed with the Board either before or after the meeting. Individuals who wish to make oral statements pertaining to agenda items should contact James Giusti's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling James Giusti at the address or phone number listed above. Minutes will also be available at the following Web site: http://cab.srs.gov/srs-cab.html.

Issued at Washington, DC, on June 16, 2016.
LaTanya R. Butler,
Deputy Committee Management Officer.

[FR Doc. 2016-14773 Filed 6-21-16; 8:45 am]

BILLING CODE 6450-01-P